FEDERAL COMMUNICATIONS COMMISSION

47 CFR Part 73

[DA 02-1777, MB Docket No. 01-23, RM-9960]

Digital Television Broadcast Service; Ontario, CA

AGENCY: Federal Communications Commission.

ACTION: Final rule.

SUMMARY: The Commission, at the request of USA Station Group Partnership of Southern California, licensee of noncommercial station KFTR-TV, substitutes DTV channel 29c for DTV channel 47c at Ontario, California. See 16 FCC Rcd 2276 (2001). DTV channel 29c can be allotted to Ontario in compliance with the principle community coverage requirements of Section 73.625(a) at reference coordinates 34-13-37 N. and 118-03-58 W. with a power of 155 kW, HAAT of 927 meters and with a DTV service population of 12,982,000.

With this action, this proceeding is terminated.

DATES: Effective September 12, 2002.

FOR FURTHER INFORMATION CONTACT: Alan E. Aronowitz, Media Bureau, (202) 418-1600.

SUPPLEMENTARY INFORMATION: This is a synopsis of the Commission's Report and Order, MB Docket No. 01-23, adopted July 23, 2002, and released July 29, 2002. The full text of this document is available for public inspection and copying during regular business hours in the FCC Reference Information Center, Portals II, 445 12th Street, SW, Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Accordingly, Part 73 of Title 47 of the Code of Federal Regulations is amended as follows:

PART 73—[AMENDED]

1. The authority citation for Part 73 continues to read as follows:

Authority: 47 U.S.C. 154, 303, 334 and 336.

§ 73.622 [Amended]

2. Section 73.622(b), the DTV Table of Allotments under California, is amended by removing DTV channel 47c and adding DTV channel 29c at Ontario.

Federal Communications Commission.
Barbara A. Kreisman,
Chief, Video Division, Media Bureau.

[FR Doc. 02-19490 Filed 8-2-02; 8:45 am]

BILLING CODE 6712-01-P